DEPARTMENT OF STATE

22 CFR Part 41

[Public Notice 4217]

Exchange Visitor Program; Correction

AGENCY: Department of State.

ACTION: Final rule; correction.

SUMMARY: This document contains a correction to a regulation published in the Federal Register by the United States Information Agency (USIA) on May 28, 1997 [62 FR 28801]. The regulation relates to requests for a waiver of the two-year home-country physical presence requirement for exchange visitors who are foreign medical graduates.

EFFECTIVE DATE: December 17, 2002.

FOR FURTHER INFORMATION CONTACT: Pam Chavez, Legislation and Regulations Division, Visa Services, Department of State, Washington, DC 20522-0113.

SUPPLEMENTARY INFORMATION: Regulatory Findings

Background

On May 28, 1997, the USIA (which has now been incorporated by the Department of States) published an amendment to their regulations regarding requests for waivers of the two-year home-country physical presence requirement by interested U.S. Government agencies on behalf of exchange visitors who are foreign medical graduates. The rule amended 514.44 of 22 CFR (now 41.63). Paragraph (c)(4)(iii), as amended, contained an error in the U.S. Code citation.

Correction

The regulation at 41.63(c)(4)(iii) contains a statement to be signed and dated by foreign medical graduate exchange visitors. The statement indicates that the medical graduate will incur penalties, as provided for under the provisions of “18 U.S.C. 1101,” for making false or misleading statements. The U.S.C. cite was incorrect, and should have been “18 U.S.C. 1001”. This rule amends the U.S.C. citation.

List of Subjects in 22 CFR Part 41

Nonimmigrants, Visas and passports.

Accordingly, for the reasons set forth in the preamble, 22 CFR 41 is corrected as follows:

PART 41—VISAS: DOCUMENTATION OF NONIMMIGRANTS UNDER THE IMMIGRATION AND NATIONALITY ACT, AS AMENDED

1. The authority citation for part 41 continues to read as follows:

Authority: 8 U.S.C. 1104, 1181, 1201, 1202; Pub. L. 105-277, 112, Stat. 2681 et seq.

§ 41.63 Two-year home-country physical presence requirement.

2. In § 41.63 (c)(4)(iii) change the U.S.C. cite to read “18 U.S.C. 1001.”

Dated: December 12, 2002.
Maura Harty,
Assistant Secretary for Consular Affairs, Department of State.

[FR Doc. 02-31484 Filed 12-16-02; 8:45 am]

BILLING CODE 4710-06-P